DEPARTMENT OF ENERGY

Finding of No Significant Impact: Energy Conservation Program for Commercial Equipment, Distribution Transformers

AGENCY: Office of Energy Efficiency and Renewable Energy, Department of Energy.

ACTION: Finding of No Significant Impact for Energy Conservation Standards for distribution transformers.

SUMMARY: The Energy Policy and Conservation Act, as amended, prescribes energy conservation standards for certain consumer products and commercial equipment. Part C of Title III (42 U.S.C. 6311-6317) establishes a program for “Certain Industrial Equipment,” which includes distribution transformers. The Department of Energy (DOE) is directed to administer an energy conservation program for this product. Based on an Environmental Assessment (EA), DOE/EA-1565, which is published as part of the Distribution Transformer Technical Support Document (TSD), DOE has determined that the adoption of energy efficiency for liquid-immersed distribution transformers and medium-voltage dry-type distribution transformers, as adopted by the Final Rule entitled the “Energy Conservation Program for Commercial Equipment: Distribution Transformers Energy Conservation Standards; Final Rule,” published on October 12, 2007 (72 FR 58190), would not be a major Federal action significantly affecting the quality of the human environment within the meaning of the National Environmental Policy Act of 1969 (NEPA). Therefore, an environmental impact statement (EIS) is not required, and the Department is issuing this Finding of No Significant Impact (FONSI).

ADDRESSES: Copies of the EA and the TSD, as well as the complete docket for the distribution transformer rulemaking can be reviewed at the U.S. Department of Energy, Resource Room of the Building Technologies Program, 950 L'Enfant Plaza, SW., Washington, DC (202) 586-2945, between 9 a.m. and 4 p.m., Monday through Friday, except Federal holidays. Please call Ms. Brenda Edwards-Jones at the above telephone number for additional information regarding visiting the Resource Room. You may also obtain copies of certain previous rulemaking documents from this proceeding (i.e., Framework Document, advance notice of proposed rulemaking (ANOPR), notice of proposed rulemaking (NOPR or proposed rule)), draft analyses, public meeting materials, and related test procedure documents from the Office of Energy Efficiency and Renewable Energy's Web site at http://www.eere.energy.gov/buildings/appliance_standards/commercial/distribution_transformers.html.

FOR FURTHER INFORMATION CONTACT: Mr. Antonio Bouza, Project Manager, Energy Conservation Standards for Distribution Transformers, Docket No. EE-RM/STD-00-550, U.S. Department of Energy, Energy Efficiency and Renewable Energy, Building Technologies Program, EE-2J, 1000 Independence Avenue, SW., Washington, DC 20585-0121, (202) 586-4563, e-mail: Antonio.Bouza@ee.doe.gov. For further information regarding the DOE NEPA process contact: Ms. Othalene Lawrence, EERE NEPA Compliance Officer (EE-3C), U.S. Department of Energy, Energy Efficiency and Renewable Energy, 1000 Independence Avenue, SW., Washington, DC 20585-0119, (202) 586-8596.

SUPPLEMENTARY INFORMATION: Description of the Final Rule: The final rule published on October 12, 2007 established an energy conservation standard for liquid-immersed distribution transformers and medium-voltage dry-type distribution transformers. 72 FR 58190.

Environmental Impacts: The EA and TSD evaluate the environmental impacts of a range of energy conservation standards for distribution transformers. The results are presented for each TSL that DOE considered in this rulemaking. Each TSL was considered as an alternative action, and the environmental impacts of each alternative are compared to what would be expected to happen if no new standard were adopted, i.e., the “no action” alternative.

The main environmental impact is decreased emissions from fossil-fueled electricity generation. All of the minimum efficiency levels that were considered for this commercial product would result in decreased electricity use and, therefore, a reduction in power plant emissions. The adopted energy conservation standard will generally decrease air pollution by decreasing future energy demand. The environmental analysis considers carbon dioxide (CO2) nitrogen oxides (NOX), mercury (Hg) and sulfur dioxide (SO2).

The results of the analysis show an estimated cumulative reduction of 250 million tons of carbon dioxide emissions for liquid-immersed and medium-voltage dry-type distribution transformers between 2010 and 2038. Because emissions of NOX, Hg and SO2 from power plants are capped by clean air legislation, physical emissions from electricity generation will be only minimally affected by distribution transformers energy conservation standards. The maximum NOX, Hg and SO2 allowed by law will most likely still be produced, but because these emissions are traded, and if emissions are lowered due to the reduction in power generation, then the cost of emission credits may decrease slightly. Therefore, the EA did not consider changes in power sector emissions because they will be negligible.

Determination: Based upon the EA, DOE has determined that the adoption of the final rule energy conservation standard for distribution transformers would not constitute a major Federal action significantly affecting the quality of the human environment, within the meaning of NEPA. Therefore, an EIS is not required, and the Department is issuing this FONSI.

Issued in Washington, DC, on November 1, 2007.
Alexander A. Karsner,
Assistant Secretary, Energy Efficiency and Renewable Energy.

[FR Doc. E7-22004 Filed 11-8-07; 8:45 am]

BILLING CODE 6450-01-P